DEPARTMENT OF ENERGY

Federal Energy Regulatory Commission

[Docket Nos. RM95-9-014 and RM95-9-015]

Open Access Same-Time Information System and Standards of Conduct

Issued October 12, 2000.

AGENCY: Federal Energy Regulatory Commission.

ACTION: Order Granting Time Extension and Twelve Hour Transition Period.

SUMMARY: In this order, the Federal Energy Regulatory Commission (Commission) grants a time extension, until March 1, 2001, for compliance with the OASIS Standards and Communications Protocols Document, Version 1.4, and allows a twelve hour transition period, on February 28, 2001, during which requests for service made by telephone or facsimile will be accepted.

FOR FURTHER INFORMATION CONTACT:

Marvin Rosenberg (Technical Information), Office of Economic Policy, Federal Energy Regulatory Commission, 888 First Street, NE., Washington, DC 20426, (202) 208-1283

Paul Robb (Technical Information), Office of Electric Power Regulation, Federal Energy Regulatory Commission, 888 First Street, NE., Washington, DC 20426, (202) 219-2702

Gary D. Cohen (Legal Information), Office of the General Counsel, Federal Energy Regulatory Commission, 888 First Street, NE., Washington, DC 20426, (202) 208-0321

SUPPLEMENTARY INFORMATION: Before Commissioners: James J. Hoecker, Chairman; William L. Massey, Linda Breathitt, and Curt Hébert, Jr.

Order Granting Requests for Extension of Time for Implementing OASIS Standards and Communications Protocols Document, Version 1.4

Introduction

As discussed below, we will grant requests from the OASIS How Working Group (How Group) and American Electric Power Service Corporation (AEP) ¹ for a time extension, until March 1, 2001, for compliance with the OASIS Standards and Communications Protocols Document, Version 1.4 (S&CP Document) and for a twelve hour transition period, on February 28, 2001, during which requests for service made by telephone or facsimile will be accepted.

¹ AEP styled its request for a time extension as a “request for rehearing,” but the sole issue raised in the pleading is its request for a time extension.

Background

On August 1, 2000, in Open Access Same-time Information System and Standards of Conduct, 65 Fed. Reg. 48,990, 92 FERC ¶ 61,146, FERC Stats. & Regs. ¶ 31,106 (2000) (August 1 Order), the Commission adopted a revised S&CP Document (Version 1.4) with an effective date of January 8, 2001.² The How Group and AEP each request that an extension, until March 1, 2001, be granted for compliance with the revised S&CP Document so that the implementation date will not coincide with the Winter Peak period.

² Based on comments from the industry that a six month lead time would be needed for compliance, the August 1 Order prescribed an effective date 150 days after publication in the Federal Register, FERC Stats. & Regs. ¶ 31,106 at 31,712.

Discussion

Both AEP and the How Group point out that the January 8, 2001 effective date coincides with the Winter Peak period. They suggest a March 1, 2001 effective date that would avoid the Winter Peak period and that would be preferable for accounting reasons. AEP states that: (1) The prompt publication of the August 1 Order in the Federal Register had the effect of advancing the effective date of the revised S&CP Document; (2) it would be preferable if the effective date would coincide with the end of a billing cycle; and (3) scheduling customer and operator training is more difficult at the end of the calendar year. For these reasons, AEP and the How Group each request that the Commission adopt a March 1, 2001 effective date for implementation of the revised OASIS S&CP Document.³ We find these concerns reasonable and will grant the requested extension.

³ The How Group also informs us that the transmission providers plan to display certain information on their respective OASIS websites on February 1, 2001, for informational purposes. We have no objection to these postings being made.

To allow a smooth transition, the How Group also requests that the Commission allow transmission providers to shut down their OASIS website operations for no more than twelve hours prior to midnight, local time, on February 28, 2001, and allow them to conduct transactions by telephone or facsimile as they transfer from OASIS S&CP Document, Version 1.3, to Version 1.4.

The Commission orders:

(A) The requests of AEP and the How Group for an extension, until March 1, 2001, for the industry to comply with the OASIS S&CP Document (Version 1.4) is hereby granted.

(B) The How Group's request on behalf of the industry for a twelve hour transition period on February 28, 2001, is hereby granted, as discussed in the body of this order.

By the Commission.
David P. Boergers,
Secretary.

[FR Doc. 00-26678 Filed 10-24-00; 8:45 am]

BILLING CODE 6717-01-P